DEPARTMENT OF THE INTERIOR

Bureau of Indian Affairs

Solicitation of Proposals for Technical Assistance Funding From the Native American Business Development Institute

AGENCY: Bureau of Indian Affairs, Interior.

ACTION: Notice.

SUMMARY: The Office of Indian Energy and Economic Development (IEED), through its Native American Business Development Institute (NABDI), is soliciting proposals from federally recognized American Indian tribes for technical assistance funding to hire consultants to perform feasibility studies of economic development opportunities or long-term, strategic, reservation-wide economic development plans. These feasibility studies will empower American Indian tribes and tribal businesses to make informed decisions regarding their economic futures. Feasibility studies may concern the viability of an economic development project or business or the practicality of a technology a tribe may choose to pursue. The IEED will use a competitive evaluation process to select several proposed projects to receive an award.

DATES: Submit grant proposals on or before August 12, 2011. We will not consider grant proposals received after this date.

ADDRESSES: Mail or hand-carry grant proposals to the Department of the Interior, Office of Indian Energy and Economic Development, Attention: Victor Christiansen, 1951 Constitution Avenue, NW., Washington, DC 20245, or e-mail at Victor.Christiansen@bia.gov.

FOR FURTHER INFORMATION CONTACT: Victor Christiansen (202) 219-0739.

SUPPLEMENTARY INFORMATION:

A. Background

B. Items to Consider Before Preparing an Application for NABDI Technical Assistance Funding.

C. How to Prepare an Application for NABDI Technical Assistance Funding

D. Submission of Application in Digital Format

E. Application Evaluation and Administrative Information

F. When to Submit

G. Where to Submit

H. Transfer of Funds

I. Reporting Requirements for Award Recipients

J. Requests for IEED Assistance

A. Background

The IEED established NABDI to provide technical assistance funding on a competitive basis to federally recognized American Indian tribes seeking to retain consultants to perform feasibility studies of economic development opportunities or long-term, strategic, reservation-wide economic development plans. Consultants may include universities and colleges, private consulting firms, non-academic/non-profit entities, or others. The feasibility studies will empower American Indian tribes and tribal businesses to make informed decisions regarding their economic futures. Feasibility studies may concern the viability of an economic development project or business or the practicality of a technology a tribe may choose to pursue.

This is an annual program whose primary objective is to create jobs and foster economic activity within tribal communities. When funding is available, IEED will solicit proposals for feasibility studies and reservation-wide economic development plans. To receive these funds, tribes may use the contracting mechanism established by Public Law 93-638, the Indian Self-Determination Act or may obtain adjustments to their funding from the Office of Self-Governance. See 25 U.S.C. 450 et seq.

The NABDI program is funded under the non-recurring appropriation of the Bureau of Indian Affairs' (BIA) budget. Congress appropriates funds on a year-to-year basis. Thus, while some projects may extend over several years, funding for successive years depends on each fiscal year's appropriations.

The information collection requirements contained in this notice have been reviewed and approved by the Office of Management and Budget (OMB) under the Paperwork Reduction Act, 44 U.S.C. 3504(h). The OMB control number is 1076-0178. The authorization expires on July 31, 2014. An agency may not conduct or sponsor, and you are not required to respond to, any information collection that does not display a currently valid OMB Control Number.

B. Items To Consider Before Preparing an Application for NABDI Technical Assistance Funding

1. Trust Land Status

The NABDI technical assistance funding can only be made available to tribes whose lands are held in trust or restricted fee by the Federal government.

2. Tribes' Compliance History

The EED will monitor all NABDI technical assistance funding for statutory and regulatory compliance to assure that awarded funds are correctly applied to approved projects. Tribes that expend funds on unapproved functions may forfeit remaining funds in that proposal year, and possibly for any future NABDI technical assistance funding. Consequently, IEED may request a tribe to provide a summary of any funds it has received in past years through other projects approved by IEED, and IEED may conduct a review of prior award expenditures before making a decision on current year proposals.

3. BIA Sanction List

Tribes that are currently under BIA sanction resulting from non-compliance with the Single Audit Act may be ineligible from being considered for an award.

4. Completion of Previous NABDI Technical Assistance Projects

Generally, the IEED will not support nor recommend additional funding for a project until all project functions scheduled for completion the previous year have been documented by the tribe and reviewed by the IEED.

Under some circumstances, delays encountered in performing the project that are beyond the control of the tribe or their consultant will be taken into consideration when making decisions on future year NABDI technical assistance awards. Such acceptable delays may include late delivery of funding awards to the tribal project, difficulty in finding appropriate contractors to perform project functions, permitting issues, and weather delays.

5. Multiple Projects

The IEED will accept more than one application from a tribe for projects, even if the project concerns the same economic development project, business, or technology. For example, a tribe is interested in building and developing a business park on their trust lands could apply for a feasibility study of the business potential the park might generate as well as a business plan on how to market the park. In this situation, two separate proposals can be submitted. The IEED will apply the same objective ranking criteria to each proposal.

6. Multi-Year Projects

The IEED cannot award multi-year funding for a project. Funding available for the NABDI technical assistance is subject to annual appropriations by Congress and therefore, IEED can only consider single-year funded projects. Generally, the feasibility studies of economic development opportunities or long-term, strategic, reservation-wide economic development plans for which NABDI technical assistance funding is available are designed to be completed in one year. It is acceptable that a project may require more than one year to complete due to circumstances such as weather, availability of the consultant, or scope of the project.

The IEED projects requiring funding beyond one-year intervals should be grouped into discrete, single-year units of operation, and then submitted as individual proposals for consideration of IEED award funding. Tribes must be aware, however, that there is no guarantee of NABDI technical assistance awards being available for future years of a multi-year project due to the discretionary nature of NABDI technical assistance funding.

7. Use of Existing Data

The IEED maintains a comprehensive set of tribal data and information. The IEED has spent considerable time and expense in collecting digital land grids, geographic information system data and imagery data for many reservations. Monthly well status and production data, geophysical data (such as seismic data), geology and engineering data, etc. are all stored at IEED's offices. All of these data sets particular to that tribe are available to a tribe to reduce the cost of its investigations.

Budget line items will not be allowed for data or products that reside at IEED. The tribe or the tribe's consultant must first check with IEED for availability of these data sets on the reservation they are investigating. If IEED does not have a particular data set, then NABDI technical assistance funds may be used to acquire such data.

When a proposal includes the acquisition of new data, the tribe should thoroughly search for preexisting data to ensure there is no duplication. If older data does exist, it may have considerable value. It may be updated or improved upon, either by IEED or by the tribe's consultant.

8. Using Technical Services at IEED

The IEED has many in-house technical capabilities and services that the tribes may wish to use. All services provided by IEED are without charge to the tribes. Tribes can obtain maximum benefit from feasibility studies of economic development opportunities or long-term, strategic, reservation-wide economic development plans by first using IEED 's services, or by using IEED services in conjunction with the outside consultants. Services available at IEED include:

• Marketing studies.

9. What the NABDI Technical Assistance Funding Cannot Fund

As stated above, these funds are specifically for technical assistance for only the following: feasibility studies of economic development opportunities or long-term, strategic, reservation-wide economic development plans. Examples of elements that cannot be funded include:

• Establishing or operating a tribal office, and/or purchase of office equipment not specific to the assessment project. Tribal salaries may be included only if the personnel are directly involved in the project and only for the duration of the project;

• Indirect costs and overhead as defined by the Federal Acquisition Regulation;

• Purchase of equipment that is used to develop the feasibility studies or economic development plans, such as computers, vehicles, field gear, etc. (however, the leasing of this type of equipment for the purpose of developing feasibility studies or economic development plans is allowed);

• Legal fees;

• Application fees associated with permitting;

• Research and development of unproved technologies;

• Training;

• Contracted negotiation fees;

• Purchase of data that is available through IEED; and

• Any other activities not authorized by the tribal resolution or by the award letter.

10. Who performs feasibility studies or economic plans?

The tribe determines who they wish to perform the feasibility studies or economic development plans. A tribe has several choices in who to retain, including but not limited to the following:

• Universities and colleges;

• Private consulting firms; or

• Non-academic, non-profit entities.

There are no requirements or restrictions on how the tribe performs their contracting function for the consultant. The tribe is free to issue the contract through a sole source selection or through competitive bidding. This determination will depend on the tribe's own policies for contracting procedures. However, IEED may weigh the technical qualifications of the consultant(s) chosen by a tribal applicant in determining, on a competitive basis, whether funding will be provided.

C. How To Prepare an Application for NABDI Technical Assistance Funding

Each tribe's application must meet the criteria in this notice. A complete NABDI funding request must contain the following three components:

• A current tribal resolution requesting funding;

• A statement of work describing the project for which the feasibility study is requested or the scope of the plan anticipated;

• A budget indicating the funding amount requested and how it will be spent; and

• A description of the consultant(s) the Tribe wishes to retain including the consultant's technical expertise, training, qualifications, and suitability to undertake the feasibility study or prepare a long-term, reservation-wide economic development plan.

The IEED will consider any funding request that does not contain all of the mandatory components to be incomplete and will return it to the tribe with an explanation. The tribe will then be allowed to correct all deficiencies and resubmit the proposal for consideration on or before the deadline.

A detailed description of each of the required components follows.

1. Mandatory Component 1: Tribal Resolution

The tribal resolution must be current, and must be signed. It must authorize the tribal request for NABDI technical assistance funding in the same fiscal year as that of the statement of work and must explicitly refer to the statement of work being submitted. The tribal resolution must also include:

(a) A description of the feasibility studies or economic development plan to be developed;

(b) A statement that the tribe is willing to consider implementing the economic opportunities or economic development plan developed using the technical assistance funding;

(c) A statement describing how the tribe plans to retain consultants;

(d) A statement that the tribe will consider public release of information obtained from the feasibility studies or economic development plan. (Public release is meant to include publications, a poster session, attending a property fair, or giving an oral presentation at industry or Federal meetings and conferences. It does not mean providing copies of the data or reports to any individual, private company or other government agency without express written permission from the tribal government.)

Note: Any information in the possession of IEED or submitted to IEED throughout the NABDI funding process constitutes government records and may be subject to disclosure to third parties under the Freedom of Information Act (FOIA), 5 U.S.C. 552, and the Department of the Interior's FOIA regulations at 43 CFR Part 2, unless a FOIA exemption or exception applies or other provisions of law protect the information. A tribe may, but is not required to, designate information it submits as confidential commercially or financially sensitive information, as applicable, in any submissions it makes throughout the NABDI funding process. If IEED receives a FOIA request for this information, it will follow the procedures in 43 CFR Part 2.

2. Mandatory Component 2: Statement of Work

A tribe may present the statement of work in any form they wish, so long as the statement of work describes the project for which the feasibility study is requested or the scope of the plan anticipated within the fiscal year for which funding is being requested. The statement of work should be well organized, contain as much detail as possible, yet be presented succinctly to allow a quick and thorough understanding of the proposal by the IEED ranking team.

Many tribes utilize the services of a private consultant to prepare the technical part of the statement of work. However, some tribes may not have these resources and therefore, are urged to seek IEED's assistance in preparing their statement of work. Tribes who want assistance from IEED should make this request in writing to the address provided in the ADDRESSES section of this notice. The request should be made as early as possible to give IEED time to provide the assistance.

The statement of work should include the following sections:

(a) Overview and Technical Summary of the Work: Prepare a short summary overview of the work to be contracted for that includes the following:

—Elements of the proposed study or plan;

—Reasons why the proposed study or plan is needed;

—Total anticipated funding; and

—A tribal point of contact for the project and contact information.

(b) Technical Summary of Project: Provide a technical description of the project area, if sufficient information exists. Give examples of a typical economic opportunity to be examined under the proposal. If possible, include criteria applicable to these types of resource occurrences.

• Existing Information: Acknowledge any existing economic development information and provide references. The proposed new study should not duplicate previous work.

• Environmental or Cultural Sensitive Areas: Describe and verify if the resources are located in an archeological, environmentally or culturally sensitive area of the reservation. The tribe must also assist IEED with the Environmental Assessment phase of the proposed project.

(c) Project Objective, Goals and Scope of Work: Describe why the tribe needs the work to be contracted for. Examples may include:

• Discussion of the short and long term benefits to the tribe.

• Identification of an economic opportunity for possible development.

• Additional information regarding the economic opportunity required for tribal decisionmaking commitments.

• Description of the location of the reservation and focused areas for economic development, if any. Include relevant page size maps and graphs.

(d) Deliverable Products: Describe all deliverable products that the consultant is expected to generate, including interim deliverables, such as status reports and technical data to be obtained, and final deliverables, such as the feasibility study or economic development plan. Describe any maps to be generated, including their types, proposed scales, and how they will help define economic opportunities.

(e) Resumes of Key Personnel: If available, provide the resumes of key consultants to be retained. The resumes should provide information on each individual's expertise. If subcontractors are used, these should also be disclosed.

3. Mandatory Component 3: Detailed Budget Estimate

A detailed budget estimate is required for the funding level requested. The detail not only provides the tribe with an estimate of costs, but it also provides IEED with the means of evaluating the cost-benefit of each project. This line-by-line budget must fully detail all projected and anticipated expenditures under the NABDI technical assistance proposal. The ranking committee reviews each budget estimate to determine whether the budget is reasonable and can produce the results outlined under the proposal.

Each proposed project function should have a separate budget. The budget should break out contract and consulting fees, fieldwork, lab and testing fees, travel and all other relevant project expenses. Preparation of the budget portion of a NABDI proposal should be considered a top priority. NABDI proposals that include sound budget projections will receive a more favorable ranking over those proposals that fail to provide appropriate budget projections.

The budget page(s) should provide a comprehensive breakdown for those project line items that involve several components, or contain numerous sub-functions.

(a) Contracted Personnel Costs. This includes all contracted personnel and consultants, their respective positions and time (staff-hour) allocations for the proposed functions of a project.

• Personnel funded under the Public Law 93-638 NABDI program must have documented professional qualifications necessary to perform the work. Position descriptions or resumes should be attached to the budget estimate.

• If a consultant is to be hired for a fixed fee, the consultant's expenses should be itemized as part of the project budget.

• Consultant fees must be accompanied by documentation that clearly identifies the qualifications of the proposed consultants, how the consultant(s) are to be used, and a line item breakdown of costs associated with each consultant activity.

(b) Travel Estimates. Estimates should be itemized by airfare, vehicle rental, lodging, and per diem, based on the current federal government per diem schedule.

(c) Data Collection and Analysis Costs. These costs should be itemized in sufficient detail for the reviewer to evaluate the charges.

(d) Other Expenses. Include computer rental, report generation, drafting, and advertising costs for a proposed project.

D. Submission of Application in Digital Format

Submit the application, including the budget pages, in digital form. IEED will return proposals that are submitted without the digital components.

Acceptable formats are Microsoft Word and Adobe Acrobat PDF on compact disks (CDs) or floppy disks. The budget must be submitted in a Microsoft Excel spreadsheet.

Each file must be saved with a filename that clearly identifies the file being submitted. File name extensions must clearly indicate the software application used in preparing the documents (e.g., doc, .pdf).

Documents that require an original signature, such as cover letters, tribal resolutions, and other letters of tribal authorization can be submitted in hard copy (paper) form.

If you have any additional questions concerning the NABDI program proposal submission process, please contact Victor Christiansen at 202-219-0739.

E. Application Evaluation and Administrative Information

1. Administrative Review

Upon receiving an application, IEED will determine whether it contains the mandatory components listed above and does not duplicate or overlap previous or current funded NABDI technical assistance projects.

IEED staff may return an application that does not include all information and documentation required within this notice. During the review of a proposal, IEED may request the submission of additional information.

2. Ranking Criteria

Proposals will be formally evaluated by a Review and Ranking Panel using the six criteria listed below. Each criterion provides a percentage of the total maximum rating of 100 points.

(a) Economic Opportunity Potential; 10 points. If the economic opportunity is patently not feasible, then the proposal will be rejected. The panel will base their scoring on both the information provided by the tribe and databases maintained by IEED. It is critical that the tribe attempt to provide all pertinent information in their proposal in order to ensure that an accurate review of the proposal is accomplished.

(b) Marketability of the Opportunity; 20 points. Reviewers will base their scoring on both the short- and long-term market conditions of the economic opportunity. Reviewers are aware that marketability depends upon existing and emerging market conditions. Reviewers are aware of pitfalls surrounding long-term market forecasts, so the proposal should address this element fully. The potential for improving markets may be suggested by market indicators. Examples of market indicators include price history, prices from the futures markets, fundamental factors like supply shortages, and changes in technology.

(c) Economic Benefits Produced by the Project; 35 points. To receive a high score for this ranking criterion, the proposal should clearly state how the project would achieve economic benefits for the tribe with an emphasis on reservation job creation.

(d) Tribes' Willingness to Implement; 10 points; The tribe's willingness to consider implementing any recommendations resulting from the feasibility studies or economic development plan must be clearly stated in the proposal and the tribal resolution. Note that this is not a statement for mandatory implementation, but just that the tribe is willing to implement. The decision on whether to implement will always lie with the tribe. The willingness-to-implement statement should sufficiently explain how the tribe intends to accomplish this task.

(e) Tribal Commitment to the Project; 25 points: To receive a high score for this criterion, the tribe should explain how it will participate in the technical assistance, such as by appointing a designated lead and contact person (especially a person with some knowledge of the technical aspects of economic opportunities, and direct contact with the tribe's natural resource department and tribal council), to be committed to the successful completion of the project.

3. Ranking of Proposals and Award Letters

The Review and Ranking Panel will rank the NABDI technical assistance proposals using the selection criteria outlined in this section. The committee will then forward the rated requests to the Director of the IEED (Director) for approval. Once approved, the Director will submit all proposals to the Assistant Secretary—Indian Affairs for concurrence and announcement of awards to those selected tribes, via written notice. Those tribes not receiving an award will also be notified immediately in writing.

F. When To Submit

IEED will accept applications at any time before the deadline stated in the DATES section of this notice, and will send a notification of receipt to the return address on the application package, along with a determination of whether or not the application is complete. IEED will not consider grant proposals after this date. A date-stamped receipt of submission by the BIA Regional or Agency-level office on or before the announced deadline will also be acceptable.

G. Where To Submit

Submit the NABDI technical assistance proposals to IEED at the address listed in the ADDRESSES section of this notice. Applicants should also forward a copy of their proposal to their own BIA Agency and Regional offices.

A tribe may fax the cover letter and resolution for the proposal before the deadline, which will guarantee that the proposal will be considered as being received on time. However, IEED asks that tribes or consultants do not send the entire proposal via fax, as this severely overloads the fax system.

The cover letter should also state that the proposal is being sent via FedEx or mail. An original signature copy must be received in IEED's office within 5 working days after the deadline, including all signed tribal resolutions and letters of tribal authorization.

The BIA Regional or Agency level offices receiving a tribe's submitted NABDI technical assistance proposal do not have to forward it on to IEED. It is meant to inform them of a tribe's intent to retain consultants using NABDI technical assistance funding. The BIA Regional or Agency offices are free to comment on the tribe's proposal, or to ask IEED for other information.

H. Transfer of Funds

The IEED will transfer a tribe's NABDI technical assistance award funds to the BIA Regional Office that serves that tribe, via a sub-allotment funding document coded for the tribe's project. The tribe should anticipate the transfer and be in contact with budget personnel at the Regional and Agency office levels. Tribes receiving NABDI awards must establish a new 638 contract to complete the transfer process, or use an existing 638 contract, as applicable.

I. Reporting Requirements for Award Recipients

2. Final Reporting Requirements

• Delivery Schedules. The tribe must deliver all products and data generated by the proposed NABDI technical assessment project to IEED's office within two weeks after completion of the project.

• Mandatory Requirement to Provide Products and Data in Digital Form. The IEED requires that deliverable products be provided in digital format, along with printed hard copies. Reports can be provided in either Microsoft Word or Adobe Acrobat PDF format. Spreadsheet data can be provided in Microsoft Excel, Microsoft Access, or Adobe PDF formats. All vector figures should be converted to PDF format. Raster images can be provided in PDF, JPEG, TIFF, or any of the Windows metafile formats.

• Number of Copies. When a tribe prepares the contract for economic development feasibility studies or an economic development plan, it must describe the deliverable products and include a requirement that the products be prepared in standard format (see format description above). Each contract will provide funding for a total of six printed and six digital copies to be distributed as follows:

(a) The tribe will receive two printed and two digital copies of the final deliverable.

(b) The IEED requires four printed copies and four digital copies of the final deliverable. The IEED will transmit one of these copies to the tribe's BIA Regional Office, and one copy to the tribe's BIA Agency office. Two printed and two digital copies will then reside with IEED.

All products generated by the consultant belong to the tribe and cannot be released to the public without the tribe's written approval. Products include, but are not limited to, all reports and technical data obtained maps and cross sections, status reports, and the final report.

J. Requests for IEED Assistance

The IEED staff may provide technical consultation (i.e., work directly with tribal staff or the consultant on a proposed project), provide support documentation and data, provide written language on specialized sections of the proposal, and suggest ways a tribe may retain consultants specializing in a particular area of expertise. However, the tribe is responsible for preparing the executive summary, justification, and scope of work for their proposal.

The tribe must notify IEED in writing that they require assistance, and IEED will then appoint staff to provide the requested assistance. The tribe's request must clearly specify the type of assistance desired.

Requests for assistance should be submitted well in advance of the proposal deadline established in the DATES section of this solicitation to allow IEED staff time to provide the appropriate assistance. Tribes not seeking assistance should also attempt to submit their NABDI proposals well in advance of the deadline to allow IEED staff time to review the proposals for possible deficiencies and allow time to contact the tribe with requests for revisions to the initial submission.

Dated: May 31, 2011.
Paul Tsosie,
Chief of Staff, Assistant Secretary—Indian Affairs.

[FR Doc. 2011-17604 Filed 7-12-11; 8:45 am]

BILLING CODE 4310-4M-P